DEPARTMENT OF THE INTERIOR

Bureau of Indian Affairs

[201A2100DD/AAKC001030/A0A501010.999900]

Phase I Negative Proposed Finding on the Fernandeño Tataviam Band of Mission Indians

AGENCY: Bureau of Indian Affairs, Interior.

ACTION: Notice of Proposed Finding.

SUMMARY: The Office of Federal Acknowledgment (OFA) within the Office of the Assistant Secretary—Indian Affairs (AS-IA) within the Department of the Interior (Department) hereby provides notice that OFA has issued a Phase I negative Proposed Finding (PF) in response to the petition it received from the group known as the Fernandeño Tataviam Band of Mission Indians (FTB), headquartered in San Fernando, California. The petitioner seeks Federal acknowledgment as an Indian Tribe under the Department's regulations. The OFA has found that FTB meets only three of the four mandatory criteria reviewed under the Phase I review, as defined by the regulations.

DATES: Comments on this Phase I negative PF are due on or before October 14, 2020.

ADDRESSES: Please address comments on the PF to the Department of the Interior, Office of the Assistant Secretary—Indian Affairs, Attn: Office of Federal Acknowledgment, 1849 C Street NW, MS-4071 MIB, Washington, DC 20240.

Any individuals or entities that make submissions to OFA must also provide copies of their comments and evidence to the petitioner at Fernandeño Band of Mission Indians c/o Rudy Ortega, Jr., 1019 Second Street, #1, San Fernando, California 91340. Electronic copies of the PF, as well as other related documents, are available on OFA's website (www.bia.gov/as-ia/ofa).

FOR FURTHER INFORMATION CONTACT: R. Lee Fleming, Director, Office of Federal Acknowledgment, (202) 513-7650; lee.fleming@bia.gov.

SUPPLEMENTARY INFORMATION: The OFA publishes this notice pursuant to § 83.34 of the Department's Federal acknowledgment regulations at 25 CFR part 83 (which became effective July 31, 2015), “Procedures for Federal Acknowledgement of Indian Tribes.”

The Department's regulations under 25 CFR part 83 establish the procedures and criteria by which a group may seek Federal acknowledgment as an Indian Tribe, establishing a government-to-government relationship with the United States. To obtain Federal acknowledgment by the United States under § 83.5, the petitioner must submit evidence documenting that the group meets criteria § 83.11(a) Indian entity identification, (d) Governing document, (e) Descent, (f) Unique membership, and (g) Congressional termination and must either:

• Demonstrate previous Federal acknowledgment under § 83.12(a) and meet the requirements of § 83.12(b); or

• Meet criteria § 83.11(b) Community and (c) Political authority.

Section 83.26 describes the two phases of the process for reviewing the criteria in § 83.11. During the Phase I review, OFA determines if the petitioner meets criteria § 83.11(d), (e), (f), and (g). Based on the evidence submitted by FTB and evidence Departmental staff obtained through its verification and evaluation process, OFA has found that FTB meets only three of the four mandatory criteria under the Phase I review: Criteria § 83.11(d), (f), and (g). FTB does not meet criterion § 83.11(e). Therefore, OFA has issued a negative PF, which contains a summary of the evidence, reasoning, and analyses that are the basis for the PF.

Under § 83.34(a), OFA will provide copies of the Phase I negative PF and any supporting reports to the petitioner. This provision also requires OFA to provide copies of the PF and any supporting reports to individuals and entities listed in § 83.22(d).

Under § 83.34(b), OFA will publish the PF and any supporting reports on its website at https://www.bia.gov/as-ia/ofa. Requests for a copy of PF should be addressed to the Federal Government as instructed in the ADDRESSES section of this notice.

Publication of this notice of the PF in the Federal Register initiates a 120-day comment period. During this comment period, the petitioner or any individual or entity may submit comments and evidence to OFA to rebut or support the PF, pursuant to § 83.35(a). Copies of comments on the PF submitted to OFA should also be provided to the petitioner, as required by § 83.35(b) and as instructed in the ADDRESSES section of this notice by the date listed in the DATES section of this notice.

If OFA receives comments on this PF, then the petitioner will have 60 days to submit a written response to those comments, with citations to and explanations of supporting evidence, and the supporting evidence cited and explained in the response, pursuant to § 83.37. After the expiration of that comment period, the petitioner will have 60 days to elect to challenge the PF before an administrative law judge, as outlined in §§ 83.38 through 83.39.

A petitioner can withdraw its documented petition at any point in the process, but the petition will be placed at the end of the numbered register of documented petitions upon resubmission and may not regain its initial priority number, pursuant to § 83.30.

The Director of the Office of Federal Acknowledgment R. Lee Fleming approved the issuance of OFA's Phase I negative PF.

Robert Fleming,
Director, Office of Federal Acknowledgment.

[FR Doc. 2020-12775 Filed 6-15-20; 8:45 am]

BILLING CODE 4337-15-P